DEPARTMENT OF HEALTH AND HUMAN SERVICES

Administration for Community Living

[OMB No. 0985-0006]

Agency Information Collection Activities; Proposed Collection; Public Comment Request; Performance (Progress) Report for AoA Grantees

AGENCY: Administration for Community Living, HHS.

ACTION: Notice.

SUMMARY: The Administration for Community Living (ACL) is announcing an opportunity for the public to comment on the proposed collection of information listed above. Under the Paperwork Reduction Act of 1995 (the PRA), Federal agencies are required to publish a notice in the Federal Register concerning each proposed collection of information, including each proposed extension of an existing collection of information, and to allow 60 days for public comment in response to the notice. This Extension Without Changes (ICR Ext); solicits comments on the information collection requirements related to the Performance (Progress) Report for AoA Grantees under the Older Americans Act Public Law 109-365 Section 411.

DATES: Comments on the collection of information must be submitted electronically by 11:59 p.m. (EST) or postmarked by May 14, 2019.

ADDRESSES: Submit electronic comments on the collection of information to: Tomakie Washington tomakie.washington@acl.hhs.gov. Submit written comments on the collection of information to Administration for Community Living, Washington, DC 20201, Attention: Tomakie Washington.

FOR FURTHER INFORMATION CONTACT: Tomakie Washington, Administration for Community Living, Washington, DC 20201, 202-795-7336, tomakie.washington@acl.hhs.gov.

SUPPLEMENTARY INFORMATION: Under the PRA (44 U.S.C. 3501-3520), Federal agencies must obtain approval from the Office of Management and Budget (OMB) for each collection of information they conduct or sponsor. “Collection of information” is defined in 44 U.S.C. 3502(3) and 5 CFR 1320.3(c) and includes agency requests or requirements that members of the public submit reports, keep records, or provide information to a third party. Section 3506(c)(2)(A) of the PRA (44 U.S.C. 3506(c)(2)(A)) requires Federal agencies to provide a 60-day notice in the Federal Register concerning each proposed collection of information, including each proposed extension of an existing collection of information, before submitting the collection to OMB for approval. To comply with this requirement, ACL is publishing a notice of the proposed collection of information set forth in this document.

With respect to the following collection of information, ACL invites comments on our burden estimates or any other aspect of this collection of information, including:

(1) Whether the proposed collection of information is necessary for the proper performance of ACL's functions, including whether the information will have practical utility;

(2) the accuracy of ACL's estimate of the burden of the proposed collection of information, including the validity of the methodology and assumptions used to determine burden estimates;

(3) ways to enhance the quality, utility, and clarity of the information to be collected; and

(4) ways to minimize the burden of the collection of information on respondents, including through the use of automated collection techniques when appropriate, and other forms of information technology.

This request proposes no changes to the currently approved 0985-0006. The Administration for Community Living (ACL) requires grantees funded under its discretionary grants programs to report on the performance of their projects. This request is for an extension without change of the generic clearance mechanism currently in use to meet AoA's performance reporting requirements. Under the PRA, a “Generic Clearance” is approved by OMB for conducting more than one information collection (IC) using very similar methods and set protocols of questions that are approved for multiple ICs. AoA uses the generic clearance mechanism to collect performance data for a number of its smaller programs. The information submitted by ACL discretionary grantees is used by AoA to: (a) Review and monitor the grantee's progress in achieving project objectives; (b) identify significant findings, products, and practices of the project; and (c) identify areas of performance that may benefit from advice and assistance from ACL and, in rare instances, take corrective action.

The current AoA Grantee Performance Report Instrument and Instructions will expire on April 30, 2019. Under this request, ACL would request that OMB approve an extension without change of this information collection mechanism for 18 months after expiration. During this extension period, ACL plans to substantively revise and submit a Generic Clearance request covering discretionary grant ICs across ACL, not just under the Older Americans Act.

The proposed data collection instruments may be found on the ACL website for review at https://www.acl.gov/about-acl/public-input.

Estimated Program Burden

ACL estimates the annual burden hours associated with this collection as follows. The burden estimate is specific to the type of work done by the grantees that use this reporting format. Based on 266 respondents taking an average estimate of 20 hours per response twice a year the annual burden hours total 10,460.

Estimated Annualized Burden Hours
Type of respondent | Number of respondents | Annual number responses per respondent | Average burden hours per response | Total annual burden hours
ACL Grantee | 266 | 2 | 20 | 40
Total |  |  |  | 10,640

Dated: March 11, 2019.
Mary Lazare,
Principal Deputy Administrator.

[FR Doc. 2019-04829 Filed 3-14-19; 8:45 am]

BILLING CODE 4154-01-P